DEPARTMENT OF COMMERCE

National Oceanic and Atmospheric Administration

RIN: 0648-XG21

Gulf of Mexico Fishery Management Council; Public Meetings

AGENCY: National Marine Fisheries Service (NMFS), National Oceanic and Atmospheric Administration (NOAA), Commerce.

ACTION: Notice of public meetings.

SUMMARY: The Gulf of Mexico Fishery Management Council to convene its Shrimp Advisory Panel (AP) via conference call.

DATES: The Shrimp AP conference call will be held March 31, 2008, at 10 a.m. EST.

ADDRESSES: The meeting will be held via conference call and listening stations will be available. For specific locations see SUPPLEMENTARY INFORMATION.

Council address: Gulf of Mexico Fishery Management Council, 2203 North Lois Avenue, Suite 1100, Tampa, FL 33607.

FOR FURTHER INFORMATION CONTACT: Rick Leard, Deputy Director, Gulf of Mexico Fishery Management Council; telephone: (813) 348-1630.

SUPPLEMENTARY INFORMATION: The conference call will begin at 10 a.m. EST and conclude no later than 11 a.m. EST. Listening stations are available at the following locations:

The Gulf Council office (see ADDRESSES), and the National Marine Fisheries Service (NMFS) offices as follows:

St. Petersburg, FL

263 13th Avenue South, St. Petersburg, FL 33701, Contact: Stephen Holiman, telephone: (727) 551-5719;

Galveston, TX

4700 Ave U, Conference room - Bldg 305, Galveston, TX 77551, Contact: Ronnie O'Toole, telephone: (409) 766-3500;

Miami, FL

75 Virginia Beach Drive, Miami, FL, 33149, Contact: Sophia Howard, telephone: (305) 361-4259; and

Panama City, FL

3500 Delwood Beach Road, Panama City, FL 32408, Contact: Janice Hamm, telephone: (850) 234-6541.

The Shrimp AP will receive a report from the National Marine Fisheries Service (NMFS) on the final estimates of offshore shrimping effort in 2007. If the estimate is less than 74% of the estimated average annual effort during the 2001-03 period, the Shrimp AP may make recommendations for additional time and area closures in accordance with Amendment 27 to the Reef Fish Fishery Management Plan (FMP)/Amendment 14 to the Shrimp FMP.

The Shrimp AP consists principally of commercial shrimp fishermen, dealers, and association representatives.

Although other non-emergency issues not on the agenda may come before the SEP for discussion, in accordance with the Magnuson-Stevens Fishery Conservation and Management Act (Magnuson-Stevens Act), those issues may not be the subject of formal action during the meeting. Actions will be restricted to the issue specifically identified in the agenda and any issues arising after publication of this notice that require emergency action under Section 305(c) of the Magnuson-Stevens Act, provided the public has been notified of the SEP's intent to take action to address the emergency.

Special Accommodations

The listening stations are physically accessible to people with disabilities. Requests for sign language interpretation or other auxiliary aids should be directed to Tina Trezza at the Council (see ADDRESSES) at least 5 working days prior to the meeting.

Dated: March 7, 2008.
Tracey L. Thompson,
Acting Director, Office of Sustainable Fisheries, National Marine Fisheries Service.

[FR Doc. E8-4873 Filed 3-11-08; 8:45 am]

BILLING CODE 3510-22-S